ENVIRONMENTAL PROTECTION AGENCY

[EPA-HQ-OECA-2014-0102; FRL-9934-30-OEI]

Information Collection Request Submitted to OMB for Review and Approval; Comment Request; NSPS for Oil and Natural Gas Production and Natural Gas Transmission and Distribution (Renewal)

AGENCY: Environmental Protection Agency (EPA).

ACTION: Notice.

SUMMARY: The Environmental Protection Agency has submitted an information collection request (ICR), “NSPS for Oil and Natural Gas Production and Natural Gas Transmission and Distribution (40 CFR part 60, subpart OOOO) (Renewal)” (EPA ICR No. 2437.03, OMB Control No. 2060-0673) to the Office of Management and Budget (OMB) for review and approval in accordance with the Paperwork Reduction Act (44 U.S.C. 3501 et seq.). This is a proposed extension of the ICR, which is currently approved through September 30, 2015. Public comments were previously requested via the Federal Register (79 FR 30117) on May 27, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before October 21, 2015.

ADDRESSES: Submit your comments, referencing Docket ID Number EPA-HQ-OECA-2014-0102, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is (202) 566-1744. For additional information about EPA's public docket, visit www.epa.gov/dockets.

Abstract: The NSPS covers the requirements at Subpart OOOO. The existing provisions of Subparts KKK/LLL will be included in this subpart along with the new proposed provisions for the following affected facilities: Gas wellheads, pneumatic controllers, centrifugal and reciprocating compressors, and storage vessels. The oil and natural gas sector includes operations involved in the extraction and production of oil and natural gas, as well as the processing, transmission, and distribution of natural gas. The potential respondents are owners or operators of oil and gas affected facilities found throughout these industry segments. We estimate 500 entities will be affected by this NSPS.

Form Numbers: None.

Respondents/affected entities: Oil and natural gas production and natural gas transmission and distribution facilities.

Respondent's obligation to respond: Mandatory (40 CFR part 60, subpart OOOO).

Estimated number of respondents: 596 (total).

Frequency of response: Initially, semiannually and annually.

Total estimated burden: 93,900 hours (per year). Burden is defined at 5 CFR 1320.3(b).

Total estimated cost: $11,200,000 (per year), includes $1,750,000 annualized capital or operation & maintenance costs.

Changes in the Estimates: There is an increase in the total estimated respondent burden and total annual O&M as currently identified in the OMB Inventory of Approved Burdens. This burden increase is due to adjustments EPA has made to account for industry growth that has occurred since the ICR was last approved.

EPA has also revised the respondent burden associated with compressor notifications and storage vessel annual reports. The previous ICR assumed respondents would submit initial notifications for affected centrifugal and reciprocating compressors. These sources, however, are not subject to initial notification requirements, thus we have removed them from the burden calculations. For storage vessels, the previous ICR assumed respondents would complete an individual report for each affected storage vessel. The rule, however, allows respondents to submit a single report for all affected storage vessels at their site. EPA's experience has been that respondents typically consolidate reporting activities in order to reduce the overall reporting burden. For this reason, we have revised the burden calculations to assume each respondent will submit a single report.

Courtney Kerwin,
Acting Director, Collection Strategies Division.

[FR Doc. 2015-23559 Filed 9-18-15; 8:45 am]

BILLING CODE 6560-50-P